DEPARTMENT OF AGRICULTURE

Forest Service

Roadless Area Conservation National Advisory Committee

AGENCY: Forest Service, USDA.

ACTION: Notice of meeting.

SUMMARY: The Roadless Area Conservation National Advisory Committee (Committee) will meet in Washington, DC. The purpose of this first meeting is organizational in nature: The Committee members will meet for the first time, be welcomed by Department of Agriculture and Forest Service Leadership, institute administrative procedures and rules of order, and plan for future petition reviews.

DATES: The meeting will be held December 14th from 8 a.m. to 5 p.m.

ADDRESSES: The meeting will be held at the Forest Service's Yates Building at 1400 Independence Avenue, SW., Washington, DC 20250.

FOR FURTHER INFORMATION CONTACT: Garth Smelser, Committee Coordinator, at gsmelser@fs.fed.us or (202) 205-0992, USDA Forest Service, 1400 Independence Avenue, SW., Mailstop 1104, Washington, DC 20250.

Individuals who use telecommunication devices for the deaf (TDD) may call the Federal Information Relay Service (FIRS) at 1-800-877-8339 between 8 a.m. and 8 p.m., Eastern Standard Time, Monday through Friday.

SUPPLEMENTARY INFORMATION: The meeting is open to the public and interested parties are invited to attend; building security requires you to provide your name to the Committee Coordinator (contact information listed below) by December 2, 2005. You will need photo identification to enter the building. Because this first meeting is administrative, the Committee will not be addressing state petition submissions and, therefore, this meeting will not include public comment opportunities. Committee discussion is limited to Forest Service staff and Committee members. Future Committee meetings dealing with state petitions will afford public participation which will be outlined in future Federal Register notices. Committee documents, agendas, and minutes will be posted on the Forest Service's roadless Web site at http://www.roadless.fs.fed.us.

Dated: November 14, 2005.
Fredrick Norbury,
Associate Deputy Chief, National Foresty System.

[FR Doc. 05-23049 Filed 11-21-05; 8:45 am]

BILLING CODE 3410-11-P